DEPARTMENT OF AGRICULTURE

Forest Service

Shasta County Resource Advisory Committee; Meeting

AGENCY: Forest Service, USDA.

ACTION: Notice of meeting.

SUMMARY: The Shasta County Resource Advisory Committee (RAC) will meet in Redding, California, on April 27, 2011, from 8:30 a.m. to 12 noon. The committee is authorized under the Secure Rural Schools and Community Self-Determination Act (Pub. L. 110-343) (the Act) and operates in compliance with the Federal Advisory Committee Act. The purpose of the committee is to improve collaborative relationships and to provide advice and recommendation to the Forest Service concerning projects and funding consistent with Title II of the Act. The purpose of this meeting is to discuss project updates and proposals, and information on monitoring efforts.

DATES: Wednesday, May 25 at 8:30 a.m.

ADDRESSES: The meeting will be held at the Sierra Pacific Industries office, 19794 Riverside Ave, Anderson, California 96007.

FOR FURTHER INFORMATION CONTACT: Designated Federal Official, Donna Harmon at (530) 226-2595 or dharmon@fs.fed.us. Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed for Further Information.

SUPPLEMENTARY INFORMATION: The meeting is open to the public. Public input sessions will be provided and individuals will have the opportunity to address the Shasta County Resource Advisory Committee.

Dated: April 28, 2011.
Arlen P. Cravens,
Acting Forest Supervisor, Shasta-Trinity National Forest.

[FR Doc. 2011-10951 Filed 5-4-11; 8:45 am]

BILLING CODE 3410-11-P